DEPARTMENT OF AGRICULTURE

Forest Service

Plumas National Forest; Beckwourth Ranger District, California; Freeman Project

AGENCY: Forest Service, USDA.

ACTION: Notice of intent to prepare an Environmental Impact Statement.

SUMMARY: The USDA Forest Service, Plumas National Forest will prepare an Environmental Impact Statement (EIS) to reduce hazardous fuels, improve forest health, improve bald eagle habitat, cost effectively support the local communities, improve aspen stands, provide access needed to meet other project objectives and reduce transportation system impacts on the west side of Lake Davis near Portola, CA.

DATES: Although comments will be accepted throughout any phase of this project, it would be most helpful if comments on the scope of the analysis were received within 30 days of the date of publication of this notice of intent in the Federal Register. The draft EIS is expected in April 2006 and the final EIS is expected in August 2006.

ADDRESSES: Send written comments to Robert Mac Whorter, Plumas National Forest, PO Box 11500, Quincy, CA 95971; fax: (530) 283-7746. Comments may be: (1) Mailed to the Responsible Official; (2) hand-delivered between the hours of 8 a.m.-4:30 p.m. weekdays Pacific time; (3) faxed to (530) 283-7746; or (4) electronically mailed to: comments-pacificsouthwest-plumas@fs.fed.us. Comments submitted electronically must be in Rich Text Format (.rtf).

FOR FURTHER INFORMATION CONTACT: Sabrina Stadler, Interdisciplinary Team Leader, Plumas National Forest, Beckwourth Ranger District, P.O. Box 7, Blairsden, CA 96103, (530) 836-2575.

SUPPLEMENTARY INFORMATION:

Project Location

The project area is located north of Portola and west of Lake Davis, in the Beckwourth Ranger District of the Plumas National Forest. It is within all or parts of T23N, R12E; T23N, R13E; T24N, R12E; T24N, R13E.

Purpose and Need for Action

The effects of several vegetation management projects will be analyzed in this EIS. The need for and purpose of the project has six elements: to reduce hazardous fuels in the wildland/urban interface (WUI) and to create a strategic network of linear fuel treatments across the landscape referred to as defensible fuel profile zones (DFPZs); to improve forest health; to improve bald eagle habitat; to implement the project in a cost effective manner and contribute to local community economic stability; to improve aspen stands; to provide the access needed to meet other project objectives and reduce transportation system impacts.

In its effort to reduce excessive fuel, the Forest Service intends to work with the Plumas County Fire Safe Council to reduce hazardous fuels around local communities, as well as to develop a strategic network of linear fuel treatments across the landscape. This will reduce the potential for large-scale, high-intensity fire where wildfire behavior would be modified to allow for safer, more effective fire suppression.

Many stands in the project are infected with small pockets of insects and disease. The insects include both bark beetles (Dendroctonus brevicomus, D. valens) and pine engravers (Ips spp.). The diseases include mistletoe (Arceuthobium spp.), white pine blister rust (Cronartium ribicola) and annosus root rot (Heterobasidion annosum).

Stands in the Lake Davis Bald Eagle Habitat Management Area (BEHMA) in the Freeman project area are overstocked, largely unable to recruit nesting structure, and at risk of loss from wildlife and disease/insect infestation.

In addition to reducing the risk of catastrophic wildfire and improving forest health, this project would provide products that contribute to community stability in the most cost-effective manner possible, considering other resource objectives, by creating employment and income that contribute to local economic activity.

Aspen stands in the project area are low in productivity and health, and most are not successfully regenerating. Field evaluation indicates that, regardless of the relative contribution of these various factors, at present, competition by conifers is a major factor in aspen decline. Aspen stand improvement work will maintain or improve diverse and productive native plant communities in the riparian zone, as well as to support populations of well-distributed native plant, vertebrate and invertebrate populations that contribute to the viability of riparian plant communities.

The proposed road relocation and decommissioning work is needed to achieve desired riparian conditions and to reduce the total area of compacted soil.

Proposed Action

The project area consists of 14,967 acres of the PNF managed by the Beckwourth Ranger District. The proposed action will treat 5,792 acres, approximately 39 percent of the project area by: reducing hazardous fuels; improving forest health, improving bald eagle habitat, cost effectively supporting the local communities; improving aspen stands; and providing the access needed to meet other project objectives and reducing transportation system impacts.

Fuel reduction treatments will occur over 3,066 acres of the DFPZ and WUI. Treatments are specifically designed to cause advancing wildfire to drop to the ground and burn with reduced intensity and will involve several methods (i.e., grapple pile, handthin, mastication, mechanical thinning, underburn only).

Forest health improvement will involve the use of group selection to remove insect and disease infected pockets within the stands. Group selection will be on 175 acres, ranging from 0.5-2 acres in size. The health of plantations and young conifer stands will also be addressed, through area thinning, mastication and grapple piling.

Over half of the eagle habitat within the project area would receive some kind of treatment, consisting of mechanical thinning, hand thinning, underburn only, group selection and mechanical aspen treatments, covering 1,964 acres. Treatments would focus on removing diseased pockets of trees and increasing the quantity of nesting habitat by thinning stands to accelerate growth.

Aspen stands would be treated to remove conifers to enhance aspen health and growth. Aspen would be released from conifer competition in 40 units totaling approximately 645 acres, ranging in size between 1-85 acres. Conifers to be removed are within the existing aspen stand (i.e., those trees actively suppressing aspen community productivity and function) or trees bordering a stand, which directly affect the health of the stand. All conifers up to 29.9″ dbh would also be removed within a variable-width treatment zone extending up to 150′ beyond the outer boundary of the aspen stands.

The Forest proposes to improve transportation system needed to access the vegetation/fuels treatment units and to mitigate existing adverse effects on heritage resources, soils, and water quality. These improvements to the transportation system will include: building approximately 17 short segments of temporary roads (decommissioned upon completion), totaling 2-miles, needed to implement planned activities; decommissioning approximately 12.5-miles of existing system roads and 1.9-miles of non-system roads; closing 0.7-miles of system roads; relocating 0.2-mile of system road and 0.7-mile of system road would be reduced to single-track, in order to provide for recreational opportunities near Lake Davis.

Hazard trees would be removed from along Maintenance Level 3, 4 and 5 roads (generally, surfaced roads) and high-use Maintenance Level 2 roads (generally native-surface roads). Identification of hazard trees would follow guidelines in the Plumas National Forest Roadside/Facility Hazard Tree Abatement Action Plan (2003).

Lead Agency: The USDA Forest Service is the lead agency for this proposal.

Responsible Official: Plumas National Acting Forest Supervisor, Robert G. MacWhorter is the responsible official; Plumas National Forest, P.O. Box 11500, Quincy, CA 95971.

Nature of Decision To Be Made

The responsible official will decide whether to implement this project as proposed, implement the project based on an alternative to this proposal that is formulated to resolve identified issues or not implement this project at this time. The responsible official will be the Plumas National Forest Forest Supervisor.

Scoping Process

Public questions and comments regarding this proposal are an integral part of this environmental analysis process. Comments will be used to identify issues and disqualification alternatives to the proposed action. To assist the Forest Service in identifying and considering issues and concerns on the proposed action, comments should be as specific as possible.

A copy of the proposed action and/or a summary of the proposed action will be mailed to adjacent landowners, as well as to those people and organizations that have indicated a specific interest in the Freeman project, to Native American entities, and Federal, State and local agencies. The public will be notified of any meetings regarding this proposed by mailings and press releases sent to the local newspaper and media. There are no meetings planned at this time.

Permits or Licenses Required: An Air Pollution Permit and a Smoke Management Plan are required by local agencies.

Comment

This notice of intent initiates the scoping process which guides the development of the EIS. Our desire is to receive substantive comments on the merits of the proposed action, as well as comments that address errors, misinformation, or information that has been omitted. Substantive comments are defined as comments within the scope of the proposal, that have a direct relationship to the proposal, and that include supporting reasons for the responsible official's consideration.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised as the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: August 19, 2005.
Kathleen L. Gay,
Acting Forest Supervisor.

[FR Doc. 05-16898 Filed 8-24-05; 8:45 am]

BILLING CODE 3410-11-M